ENVIRONMENTAL PROTECTION AGENCY

[FRL-7462-4]

Investigator Initiated Grants: Request for Applications

AGENCY: Environmental Protection Agency.

ACTION: Notice of requests for applications.

SUMMARY: This notice provides information on the availability of fiscal year 2003 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Epidemiologic Research on Health Effects of Long-Term Exposure to Ambient Particulate Matter and Other Air Pollutants, (2) Consequences of Global Change for Air Quality: Spatial Patterns in Air Pollution Emissions, (3) Microbial Risk in Drinking Water, (4) Environmental Statistics Research: Novel Analyses of Environmental Data, (5) Aggregate Exposure Assessment for Pesticides: Longitudinal Case Studies of Human Exposure-Related Behavior and (6) Valuation for Environmental Policy.

CONTACTS: (1) Epidemiologic Research on Health Effects of Long-Term Exposure to Ambient Particulate Matter and Other Air Pollutants—Glenn.Barbara@EPA.GOV, (2) Consequences of Global Change for Air Quality: Spatial Patterns in Air Pollution Emissions—Winner.Darrell@epa.gov, (3) Microbial Risk in Drinking Water—Nolt-Helms.Cynthia@epa.gov, (4) Environmental Statistics Research: Novel Analyses of Environmental Data—Saint.Chris@epa.gov, (5) Aggregate Exposure Assessment for Pesticides: Longitudinal Case Studies of Human Exposure-Related Behavior—Saint.Chris@epa.gov, (6) Valuation for Environmental Policy—Wheeler.William@epa.gov

FOR FURTHER INFORMATION CONTACT: The complete program announcement can be accessed on the Internet at http://www.epa.gov/ncer, under “announcements.” The required forms for applications with instructions are accessible on the Internet at http://es.epa.gov/ncer/rfa/forms/downlf.html. Forms may be printed from this site.

Dated: February 25, 2003.
Peter W. Preuss,
Director, National Center for Environmental Research.

[FR Doc. 03-5618 Filed 3-7-03; 8:45 am]

BILLING CODE 6560-50-P